DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending January 5, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0220.

Date Filed: December 31, 2012.

Due Date for Answers, Conforming Applications, or Motion to Modify Scope: January 22, 2013.

Description: Application of USA Jet Airlines, Inc. (“USAJ”) requesting the Department of Transportation disclaim jurisdiction over the corporate reorganization of USAJ in which USAJ will be converted, for tax proposes/planning, from a Delaware corporation to a Delaware limited liability company bearing the name USA Jet Airlines, Inc. on December 31, 2012 (the “Date of Reorganization.

Docket Number: DOT-OST-2013-0005.

Date Filed: January 4, 2013.

Due Date for Answers, Conforming Applications, or Motion To Modify Scope: January 25, 2012.

Description: Application of C.A.L.—Cargo Airlines Ltd. (“C.A.L.—Cargo”) requesting the issuance of an amended foreign air carrier permit as now allowed under the new U.S.-Israel Agreement, for expanded authority to conduct the following services: (i) Scheduled and charter foreign air transportation of property and mail between any point or points in Israel and any point or points in the United States; (ii) scheduled and charter foreign air transportation of property and mail from any point or points behind Israel via Israel and via any intermediate points to any point or points in the United States and to any points beyond; (iii) other charter foreign air transportation of property and mail pursuant to the requirements under 14 CFR part 212; and (iv) transportation authorized by any additional route or other rights made available to Israeli carriers in the future. C.A.L. Cargo further requests a corresponding exemption to the extent necessary to enable it to provide the service described about pending issuance of the amended foreign air carrier permit and such additional or other relief as the Department may deem necessary or appropriate.

Barbara J. Hairston,
Acting Program Manager, Docket Operations, Federal Register Liaison.

[FR Doc. 2013-01131 Filed 1-18-13; 8:45 am]

BILLING CODE 4910-9X-P